DEPARTMENT OF HOMELAND SECURITY

Coast Guard

33 CFR Part 125

[USCG-2006-24189]

Maritime Identification Credentials

AGENCY: Coast Guard, DHS.

ACTION: Notice of acceptable identification credentials; correction.

SUMMARY: This document corrects a typographical error to a statutory citation in the Coast Guard document entitled “Notice of acceptable identification credentials” (USCG-2006-24189) published on April 28, 2006, in the Federal Register (71 FR 25066).

DATES: This correction is effective August 8, 2006.

ADDRESSES: Documents indicated in this preamble as being available in the docket are part of docket USCG-2006-24189 and are available for inspection or copying at the Docket Management Facility, U.S. Department of Transportation, room PL-401, 400 Seventh Street, SW., Washington, DC 20590-0001 between 9 a.m. and 5 p.m., Monday through Friday, except Federal holidays. They may also be viewed online at http://dms.dot.gov at any time. Conduct a simple search and enter in the last five digits of the docket number listed above.

FOR FURTHER INFORMATION CONTACT: If you have questions on this correction document, call Amy Bunk, Office of Regulations and Administrative Law, Coast Guard, telephone 202-372-3864. If you have questions on viewing material in the docket, call Renee V. Wright, Program Manager, Docket Operations, telephone 202-493-0402.

SUPPLEMENTARY INFORMATION: The document entitled “Maritime Identification Credentials” (USCG-2006-24189), which published in the Federal Register (71 FR 25066) on April 28, 2006, informed the public that the Commandant of the Coast Guard was directing Coast Guard Captains of the Port to prevent access to waterfront facilities to persons that do not have appropriate identification credentials as defined under Coast Guard regulations. The document also identified additional identification documents approved by the Commandant as identification credentials.

In that document the statutory citation for the United States Code section entitled “Annual admission of refugees and admission of emergency situation refugees” had a typographical error and read 8 U.S.C. 1137. The correct citation for that section of the United States Code is 8 U.S.C. 1157.

In FR Doc. 06-4026 published on April 28, 2006, (71 FR 25066) make the following correction. On page 25068, in the first column, change the fifth sentence in the first paragraph to read as follows:

Other acceptable immigration statuses include individuals who possess valid evidence of unrestricted employment and are in a lawful nonimmigrant status, are a refugee admitted under 8 U.S.C. 1157, or are an alien granted asylum under 8 U.S.C. 1158.

Dated: August 2, 2006.
Stefan G. Venckus,
Chief, Office of Regulations and Administrative Law, United States Coast Guard.

[FR Doc. E6-12843 Filed 8-7-06; 8:45 am]

BILLING CODE 4910-15-P